NUCLEAR REGULATORY COMMISSION

[Docket No. 72-20]

Department of Energy; Three Mile Island, Unit 2, Independent Spent Fuel Storage Installation Notice of Docketing Of Materials License SNM-2508 Amendment; Application

By letter dated March 26, 2001, the U.S. Department of Energy (DOE) submitted an application to the Nuclear Regulatory Commission (NRC or the Commission), in accordance with 10 CFR Part 72, requesting the amendment of the Three Mile Island, Unit 2 (TMI-2) independent spent fuel storage installation (ISFSI) license (SNM-2508) for the ISFSI located at Idaho Falls, Idaho. DOE is seeking Commission approval to amend the materials license to correct an error in the number of fuel and filter canisters that can be stored at the ISFSI. The requested changes do not appear to affect the design, analyses, operation, maintenance, or surveillance of the ISFSI.

This application was docketed under 10 CFR Part 72; the ISFSI Docket No. is 72-20 and will remain the same for this action. The amendment of an ISFSI license is subject to the Commission's approval.

The Commission may issue either a notice of hearing or a notice of proposed action and opportunity for hearing in accordance with 10 CFR 72.46(b)(1) or, if a determination is made that the amendment does not present a genuine issue as to whether public health and safety will be significantly affected, take immediate action on the amendment in accordance with 10 CFR 72.46(b)(2) and provide notice of the action taken and an opportunity for interested persons to request a hearing on whether the action should be rescinded or modified.

For further details with respect to this application, see the application dated March 26, 2001, which is available for public inspection at the Commission's Public Document Room, One White Flint North Building, 11555 Rockville Pike, Rockville, MD or from the publicly available records component of NRC's Agencywide Documents Access and Management System (ADAMS). ADAMS is accessible from the NRC Web site at Http://www.nrc.gov/NRC/ADAMS/index.html (the Public Electronic Reading Room).

Dated at Rockville, Maryland, this 29th day of March 2001.
For the Nuclear Regulatory Commission.
E. William Brach,
Director Spent Fuel Project Office, Office of Nuclear Material Safety and Safeguards.

[FR Doc. 01-8502 Filed 4-5-01; 8:45 am]

BILLING CODE 7590-01-P